DEPARTMENT OF THE TREASURY

Submission for OMB Review; Comment Request

August 17, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before September 25, 2000 to be assured of consideration.

Internal Revenue Service (IRS)

OMB Number: 1545-0089.

Form Number: IRS Form 1040NR.

Type of Review: Revision.

Title: U.S. Nonresident Alien Income Tax Return.

Description: Form 1040NR is used by nonresident alien individuals and foreign estates and trusts to report their income subject to tax and compute the correct tax liability. The information on the return is used to determine whether income, deductions, credits, payments, etc., are correctly figured. Affected public are nonresident alien individuals, estates, and trusts.

Respondents: Individuals or households, business or other for-profit, farms.

Estimated Number of Respondents/Recordkeepers: 271,000.

Estimated Burden Hours Per Respondent/Recordkeeper:

Recordkeeping | 6 hr., 3 min.
Learning about the law or the form | 2 hr., 14 min.
Preparing the form | 6 hr., 2 min.
Copying, assembling, and sending the form to the IRS | 1 hr., 44 min.

Frequency of response: Annually.

Estimated Total Reporting/Recordkeeping Burden: 4,080,651 hours.

OMB Number: 1545-0090.

Form Number: IRS Forms 1040-SS, 1040-PR and Anejo H-PR.

Type of Review: Revision.

Title: U.S. Self-Employment Tax Return (1040-SS); Planilla Para La Declaracion De La Contribucion Federal Sobre El Trabajo Por Cuenta Propia-Puerto Rico (1040-PR); and Contribuciones Sobre El Empleo De Empleados Domesticos (Anejo H-PR).

Description: Form 1040-SS (Virgin Islands, Guam, American Samoa, and the Northern Mariana Islands) and 1040-PR (Puerto Rico) are used by self-employed individuals to figure and report self-employment tax under IRC chapter 2 of Subtitle A, and provide credit to the taxpayer's social security account. Anejo H-PR is used compute household employment taxes.

Respondents: Individuals or households, business or other for-profit, farms.

Estimated Number of Respondents/Recordkeepers: 56,400.

Estimated Burden Hours Per Respondent/Recordkeeper:

Form | Recordkeeping | Learning about the law or the form | Preparing the form | Copying, assembling, and sending the form to the IRS
1040-SS | 7 hr., 19 min. | 24 min. | 2 hr., 37 min. | 48 min.
1040-PR | 6 hr., 46 min. | 37 min. | 2 hr., 24 min. | 48 min.
Anejo H-PR (Forma 1040-PR) | 33 min. | 37 min. | 43 min. | 34 min.

Frequency of response: Annually.

Estimated Total Reporting/Recordkeeping Burden: 582,132 hours.

OMB Number: 1545-0096.

Form Number: IRS Forms 1042 and 1042-S.

Type of Review: Revision.

Title: Annual Withholding Tax Return for U.S. Source Income of Foreign Persons (1042); and Foreign Person's U.S. Source Income Subject to Withholding (1042-S).

Description: Form 1042 is used by withholding agents to report tax withheld at source on certain income paid to nonresident alien individuals, foreign partnerships, and foreign corporations to the IRS. Form 1042-S is used by withholding agents to report income and tax withheld to payees. A copy of each 1042-S is filed magnetically or with Form 1042 for information reporting purposes. The IRS uses this information to verify that the correct amount of tax has been withheld and paid to the United States.

Respondents: Business or other for-profit, individuals or households.

Estimated Number of Respondents/Recordkeepers: 22,000.

Estimated Burden Hours Per Respondent/Recordkeeper:

| Form 1042 | Form 1042-S
Recordkeeping | 9 hr., 48 min. | 0 min.
Learning about the law or the form | 2 hr., 7 min. | 0 min.
Preparing the form | 4 hr., 14 min. | 25 min.
Copying, assembling, and sending the form to the IRS | 32 min. | 0 min.

Frequency of response: Annually.

Estimated Total Reporting/Recordkeeping Burden: 1,039,620 hours.

OMB Number: 1545-0129.

Form Number: IRS Form 1120-POL.

Type of Review: Extension.

Title: U.S. Income Tax Return for Certain Political Organizations.

Description: Certain political organizations file Form 1120-POL to report the tax imposed by section 527. The form is used to designate a principal business campaign committee that is subject to a lower rate of tax under section 527(h). IRS uses Form 1120-POL to determine if the proper tax was paid.

Respondents: Not-for-profit institutions.

Estimated Number of Respondents/Recordkeepers: 6,527.

Estimated Burden Hours Per Respondent/Recordkeeper:

Recordkeeping | 16 hr., 58 min.
Learning about the law or the form | 5 hr., 3 min.
Preparing the form | 12 hr., 4 min.
Copying, assembling, and sending the form to the IRS | 1 hr., 52 min.

Frequency of response: Annually.

Estimated Total Reporting/Recordkeeping Burden: 234,907 hours.

OMB Number: 1545-0175.

Form Number: IRS Form 4626.

Type of Review: Extension.

Title: Alternative Minimum Tax—Corporations.

Description: Form 4626 is used by corporations to calculate their alternative minimum tax.

Respondents: Business or other for-profit.

Estimated Number of Respondents/Recordkeepers: 60,000.

Estimated Burden Hours Per Respondent/Recordkeeper:

Recordkeeping | 18 hr., 10 min.
Learning about the law or the form | 12 hr., 12 min.
Preparing and sending the form to the IRS | 13 hr., 3 min.

Frequency of response: Annually.

Estimated Total Reporting/Recordkeeping Burden: 2,606,400 hours

OMB Number: 1545-0219.

Form Number: IRS Form 5884.

Type of Review: Revision.

Title: Work Opportunity Credit.

Description: Internal Revenue Code (IRC) section 38(b)(2) allows a credit against income tax to employers hiring individuals for certain targeted groups such as welfare recipients, etc. The employer uses Form 5884 to figure the credit. IRS uses the information on the form to verify that the correct amount of credit was claimed.

Respondents: Individuals or households, Business or other for-profit.

Estimated Number of Respondents/Recordkeepers: 10,630.

Estimated Burden Hours Per Respondent/Recordkeeper:

Recordkeeping | 7 hr., 24 min.
Learning about the law or the form | 1 hr., 0 min.
Preparing and sending the form to the IRS | 1 hr., 9 min.

Frequency of response: Annually.

Estimated Total Reporting/Recordkeeping Burden: 101,623 hours.

OMB Number: 1545-0956.

Form Number: IRS Form 5500-EZ.

Type of Review: Extension.

Title: Annual Return of One-Participant (Owners and Their Spouses) Retirement Plan.

Description: Form 5500-EZ is an annual return by a one-participant and spouse pension plan. The IRS uses this data to determine if the plan appears to be operating properly as required under the law or whether the plan should be audited.

Respondents: Business or other for-profit.

Estimated Number of Respondents/Recordkeepers: 250,000.

Estimated Burden Hours Per Respondent/Recordkeeper:

Recordkeeping | 18 hr., 10 min.
Learning about the law or the form | 2 hr., 13 min.
Preparing the form | 4 hr., 29 min.
Copying, assembling, and sending the form to the IRS | 32 min.

Frequency of response: Annually.

Estimated Total Reporting/Recordkeeping Burden: 6,355,000 hours.

OMB Number: 1545-1556.

Regulation Project Number: REG-251985-96 Final.

Type of Review: Extension.

Title: Source of Income From Sales of Inventory Partly From Sources Within a Possession of the United States; Also, Source of Income Derived From Certain Purchases From a Corporation Electing Section 936.

Description: The information requested in section 1.863-3(f)(6) is necessary for the Service to audit taxpayers' return to ensure taxpayers are properly determining the source of their income.

Respondents: Business or other for-profit.

Estimated Number of Respondents: 200.

Estimated Burden Hours Per Respondent: 2 hours, 30 minutes.

Frequency of response: Annually.

Estimated Total Reporting Burden: 500 hours.

OMB Number: 1545-1593.

Form Number: IRS Form 1041-QFT.

Type of Review: Extension.

Title: U.S. Income Tax Return for Qualified Funeral Trusts.

Description: Internal Revenue Code (IRC) section 685 allows the trustee of a qualified funeral trust to elect to report and pay the tax for the trust. Data is used to determine that the trustee filed the proper return and paid the correct tax.

Respondents: Business or other for-profit.

Estimated Number of Respondents/Recordkeepers: 15,000.

Estimated Burden Hours Per Respondent/Recordkeeper:

Recordkeeping | 9 hr., 5 min.
Learning about the law or the form | 1 hr., 54 min.
Preparing the form | 4 hr., 55 min.
Copying, assembling, and sending the form to the IRS | 48 min.

Frequency of response: Annually.

Estimated Total Reporting/Recordkeeping Burden: 250,800 hours.

OMB Number: 1545-1606.

Form Number: IRS Form 8860.

Type of Review: Extension.

Title: Qualified Zone Academy Bond Credit.

Description: A qualified zone academy bond is a taxable issued after 1997 by a state or local government, with the proceeds used to improve certain eligible public schools. In lieu of receiving interest payments from the issuer, an eligible holder of the bond is generally allowed on an annual income tax credit. Eligible holders of qualified zone academy bonds use Form 8860 to figure and claim this credit.

Respondents: Business or other for-profit, State, Local or Tribal Government.

Estimated Number of Respondents/Recordkeepers: 100.

Estimated Burden Hours Per Respondent/Recordkeeper:

Recordkeeping | 4 hr., 46 min.
Learning about the law or the form | 12 min.
Preparing and sending the form to the IRS | 16 min.

Frequency of response: Annually.

Estimated Total Reporting/Recordkeeping Burden: 527 hours.

Clearance Officer: Garrick Shear, Internal Revenue Service, Room 5244, 1111 Constitution Avenue, NW, Washington, DC 20224.

OMB Reviewer: Alexander T. Hunt, (202) 395-7860, Office of Management and Budget, Room 10202, New Executive Office Building, Washington, DC 20503.

Lois K. Holland,
Departmental Reports Management Officer.

[FR Doc. 00-21766 Filed 8-24-00; 8:45 am]

BILLING CODE 4830-01-P